DEPARTMENT OF DEFENSE

Army Corps of Engineers

Intent To Prepare a Draft Environmental Impact Statement (DEIS) for a Special Area Management for the San Jacinto River and Upper Santa Margarita River Watersheds, Riverside County, CA

AGENCY: U.S. Army Corps of Engineers, (DoD).

ACTION: Notice of intent.

SUMMARY: The U.S. Army Corps of Engineers (Corps of Engineers) is announcing its intent to prepare a DEIS for a Special Area Management Plan (SAMP). The SAMP is being developed to address anticipated development, infrastructure, and maintenance projects and aquatic resources in the watersheds of the San Jacinto River and Upper Santa Margarita River (SAMP study area). The DEIS will assess the impacts of various land development and aquatic resource protection alternatives as set forth below and further identified during the preparation of the SAMP.

The SAMP will provide a comprehensive plan for protecting and enhancing aquatic resources while providing for the permitting of reasonable economic development and public infrastructure, in coordination with local land use plans and a regional Multi-Species Habitat Conservation Plan (MSHCP) being developed by the U.S. Fish and Wildlife Service for western Riverside County. The SAMP will provide a framework for a long-term programmatic permitting process for projects in the watersheds subject to the Corps of Engineers' permit authority under section 404 of the Clean Water Act. Section 404 of the Clean Water Act regulates the discharge of dredged or fill material into waters of the United States, including wetlands.

In addition, the SAMP will include a comprehensive reserve program for the protection, restoration, and management of aquatic resources within the study area.

FOR FURTHER INFORMATION CONTACT: Questions about the proposed action and DEIS can be answered by: Dr. Fari Tabatabai, SAMP Program Coordinator, (213) 452-3291, ftabatabai@spl.usace.army.mil, Regulatory Branch (CESPL-CO-RS), U.S. Army Corps of Engineers, Los Angeles District, PO Box 532711, Los Angeles, California 90053-2325.

SUPPLEMENTARY INFORMATION: 1. Proposed Action: The Corps of Engineers utilizes Special Area Management Plans to assist in long-term planning for regulatory actions under section 404 of the Clean Water Act that involve large areas, complex projects, and sensitive aquatic resources. The subject SAMP study area consists of San Jacinto River and Upper Santa Margarita River watersheds located in western Riverside County.

The SAMP will describe an approach and a set of actions to preserve, enhance, and restore aquatic resources, while allowing reasonable economic development and construction and maintenance of public infrastructure facilities within the study area. Key objectives of the SAMP for these two watersheds in western Riverside County are to: (1) Evaluate the extent and condition of existing aquatic resources; (2) develop a comprehensive reserve program for the protection, restoration and management of aquatic resources; and (3) identify and evaluate alternative land development scenarios in the context of the aquatic resource reserve program. Based on the SAMP, the Corps of Engineers will identify potential areas and/or activities suitable for authorization using programmatic permitting procedures under section 404 of the Clean Water Act. Activities that may be authorized using such programmatic permitting procedures include, but are not limited to, the construction of public infrastructure such as roads, flood control projects and utilities, maintenance of public facilities, and residential, commercial, industrial, and recreational development.

The Corps of Engineers will develop the SAMP in close coordination with other agencies, including the U.S. Fish and Wildlife Service, the U.S. Environmental Protection Agency, and the California Regional Water Quality Control Boards, as necessary. The Corps of Engineers encourages active participation by County and local governments, concerned landowners and the general public.

The California Department of Fish and Game will cooperate in the SAMP process by formulating a Master Streambed Alteration Agreement (MSAA) under sections 1601 and 1603 of the California Fish and Game Code for activities in the SAMP study area that affect lakes, rivers, streams and associated riparian habitats subject to the Department's jurisdiction.

The environmental analysis and the SAMP will be presented in a joint federal and state document. The California Department of Fish and Game will prepare a Program Environmental Impact Report (EIR) in accordance with the California Environmental Quality Act (CEQA) for the actions described in the SAMP. A separate CEQA Notice of Preparation (NOP) will be prepared and published by the Department. The Corps of Engineers and the Department of Fish and Game will work cooperatively to prepare a joint EIS/EIR document, and to coordinate the public noticing and hearing processes under federal and state laws.

2. Alternatives: Alternatives that may be considered include the following two categories:

I. No-SAMP alternatives (also called No-Action alternatives): (a) No SAMP would be prepared, all future development would be reviewed under the current project-by-project review; (b) No construction requiring a DA permit would occur.

II. SAMP alternatives: Alternatives that may be considered under this category include those based on the following goals: (a) Maximize opportunities to protect, restore, and manage aquatic resources while allowing minimal impacts to aquatic resources; (b) minimize new impacts to aquatic resources in areas containing high hydrologic, water quality, and habitat integrity, or in low integrity areas that serve as important corridors or regionally rare aquatic resources; and (c) limit new impacts in aquatic resources that provide habitat for federal and state listed aquatic species. Programmatic DA Permit(s) would be issued for specifically identified activities and permitting criteria would be established for other future activities pursuant to the requirements of section 404 of the Clean Water Act. SAMP alternatives would be developed in consideration of the on-going MSHCP that seek to maximize the opportunities to protect, restore and manage aquatic resources. SAMP alternatives also would address alternative methods and institutional arrangements for aquatic resource reserve management.

3. Scoping Process: The Corps' scoping process for the DEIS will involve soliciting written comments and a public meeting. Potentially significant issues to be analyzed in the DEIS include aquatic resources, surface water quality, threatened and endangered species, and cultural resources.

4. Other environmental review, consultation requirements or considerations include compliance with section 106 of the National Historic Preservation Act and section 7 of the Endangered Species Act.

Public Scoping:

A public scoping meeting to receive input on the scope of the DEIS will be conducted on January 23, 2003 at 6:30-9 pm. at the Simpson Center located at 305 E. Devonshire Avenue, Hemet, CA 92543. This meeting will address both the DEIS for the SAMP and the EIR for the MSAA. The public scoping will be conducted in an open-house format.

Schedule

The estimated date the DEIS will be made available to the public is November 2003.

Dated: December 16, 2002.
Richard G. Thompson,
Colonel, U.S. Army, District Engineer.

[FR Doc. 02-32457 Filed 12-24-02; 8:45 am]

BILLING CODE 3710-92-P